Memorandum of March 14, 2025

Revisions to the 2022 Unified Command Plan

Memorandum for the Secretary of Defense

Pursuant to my authority as Commander in Chief, I hereby approve and direct the implementation of the revised 2022 Unified Command Plan.

Consistent with section 161(b)(2) of title 10, United States Code, and section 301 of title 3, United States Code, you are directed to notify the Congress on my behalf.

You are authorized and directed to publish this memorandum in the Federal Register.

THE WHITE HOUSE,

Washington, March 14, 2025

[FR Doc. 2025-04869

Filed 3-19-25; 8:45 am]

Billing code 6001-FR-P